DEPARTMENT OF COMMERCE

National Oceanic and Atmospheric Administration

[I.D. 040302A]

Marine Mammals; File No. 555-1565-01

AGENCY: National Marine Fisheries Service (NMFS), National Oceanic and Atmospheric Administration (NOAA), Commerce.

ACTION: Issuance of permit amendment.

SUMMARY: Notice is hereby given that Dr. James T. Harvey (Principal Investigator, PI), Moss Landing Marine Laboratories, P.O. Box 450, Moss Landing CA 95039 has been issued an amendment to scientific research Permit No. 555-1565-00.

ADDRESSES: The amendment and related documents are available for review upon written request or by appointment in the following office(s):

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426;

Southwest Region, NMFS, 501 West Ocean Blvd., Suite 4200, Long Beach, CA 90802-4213; phone (562) 980-4001; fax (562) 980-4018.

FOR FURTHER INFORMATION CONTACT: Amy Sloan or Ruth Johnson, (301) 713-2289.

SUPPLEMENTARY INFORMATION: On January 8, 2002, notice was published in the Federal Register (67 FR 870) that an amendment of Permit No. 555-1565, issued September 29, 2000 (65 FR 60411), had been requested by the above-named individual. The requested amendment has been granted under the authority of the Marine Mammal Protection Act of 1972, as amended (16 U.S.C. 1361 et seq.), and the Regulations Governing the Taking and Importing of Marine Mammals (50 CFR part 216).

The amendment authorizes the Permit Holder to collect from the wild up to 8 harbor seals (Phoca vitulina) per year for use in captive feeding studies and release them back to the wild after approximately 6 months in captivity; conduct feeding experiments on 10 California sea lions (Zalophus californianus) per year undergoing rehabilitation; and harass up to 2000 California sea lions per year at haul-out sites throughout central California for scat collection.

Dated: April 10, 2002.
Ann D. Terbush,
Chief, Permits, Conservation and Education Division, Office of Protected Resources, National Marine Fisheries Service.

[FR Doc. 02-9352 Filed 4-16-02; 8:45 am]

BILLING CODE 3510-22-S